INTERNATIONAL DEVELOPMENT FINANCE CORPORATION

Notice of Public Hearing

AGENCY: U.S. International Development Finance Corporation.

ACTION: Announcement of public hearing.

SUMMARY: The Board of Directors of U.S. International Development Finance Corporation (DFC), in accordance with the Better Utilization of Investments Leading to Development (BUILD) Act of 2018, will hold a public hearing to provide an opportunity for stakeholders to present their views. Those wishing to attend, present at, or submit a written statement to the Board prior to the public hearing must provide advance notice to the agency as detailed below.

DATES: 10:00 a.m. EST, Friday, December 12, 2025.

ADDRESSES: The public hearing will take place virtually. Access information will be provided at the time of attendee registration.

Registration: To attend, present at, or submit a written statement to the Board prior to the public hearing, individuals must notify DFC Corporate Secretary Heather Carroll at corporate.secretary@dfc.gov by 5:00 p.m. EST, Friday, December 5, 2025.

Notices of intent to attend or present at the public hearing must include the individual's name, title, organization, address, email address, phone number, and a concise summary of the subject matter to be presented. Oral presentations may not exceed five minutes and may be reduced proportionately, if necessary, to afford all participants an opportunity to be heard.

Written statements submitted to the Board prior to the public hearing must include the individual's name, title, organization, address, email address, and phone number. Statements must be typewritten, double-spaced, and less than ten pages in length.

Lisa Wischkaemper,
Administrative Counsel, Office of the General Counsel.

[FR Doc. 2025-22212 Filed 12-5-25; 8:45 am]

BILLING CODE P